DEPARTMENT OF HEALTH AND HUMAN SERVICES

National Institutes of Health

Eunice Kennedy Shriver National Institute of Child Health & Human Development; Amended Notice of Meeting

Notice is hereby given of a change for the meeting of the Biobehavioral and Behavioral Sciences Subcommittee, September 19, 2019, 8:00 a.m. to 6:00 p.m., Residence Inn Bethesda, which was published in the Federal Register on June 24, 2019, 84 FR 29529.

The meeting name has been corrected. The meeting is closed to the public.

Dated: September 12, 2019.
Ronald J. Livingston, Jr.,
Program Analyst, Office of Federal Advisory Committee Policy.

[FR Doc. 2019-20121 Filed 9-17-19; 8:45 am]

BILLING CODE 4140-01-P